DEPARTMENT OF AGRICULTURE

Submission for OMB Review; Comment Request

July 23, 2020.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 28, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Communication

Title: Event Appearance Request for the Secretary or Members of his Staff.

OMB Control Number: 0506-0006.

Summary of Collection: The Office of Communication will collect information on events that the public would like the Secretary or members of his staff to participate in, or those in which the incoming Secretary or members of his staff may want to use to reach back out to interested parties to invite them to events. The following information will be collected: Organization, Address, Phone/Cell Number, First and last name of point of contact, Email Address, Type of event, Date of event, Event location, Secretary's role, Number of attendees, Press open or closed.

Need and Use of the Information: The information will be used to review, approve, delegate and regret events for the Secretary and members of his staff. The information will come from public, businesses, not-for profit organizations; state, local or tribal governments. The information will be collected daily. If the information is not collected, events would not be properly scheduled for the Secretary or member of his staff and therefore would not be able to inform the Secretary or members of his staff of incoming event requests.

Description of Respondents: Individuals; Businesses; Not-for profit; State, Local or Tribal Government.

Number of Respondents: 5,000.

Frequency of Responses: Reporting: Other.

Total Burden Hours: 2,500.

Ruth Brown,
Departmental Information Collection Clearance Officer.

[FR Doc. 2020-16349 Filed 7-28-20; 8:45 am]

BILLING CODE 3410-13-P